DEPARTMENT OF TRANSPORTATION

Federal Aviation Administration

Third Meeting, Special Committee 213 Enhanced Flight Vision Systems/Synthetic Vision System, (EFVS/SVS)

AGENCY: Federal Aviation Administration (FAA), DOT.

ACTION: Notice of RTCA Special Committee 213, Enhanced Flight Vision Systems/Synthetic Vision System, (EFVS/SVS).

SUMMARY: The FAA is issuing this notice to advise the public of a meeting of RTCA Special Committee 213, Enhanced Flight Vision Systems/Synthetic Vision System, (EFVS/SVS).

DATES: The meeting will be held August 21-23, 2007 from 9 a.m.-5 p.m.

ADDRESSES: The meeting will be held at Hilton Gardens 1801 East Valley Road, Renton, WA 98055.

FOR FURTHER INFORMATION CONTACT: RTCA Secretariat, 1828 L Street, NW., Suite 805, Washington, DC, 20036; telephone (202) 833-9339; fax (202) 833-9434; Web site http://www.rtca.org for directions. Hilton Gardens: telephone (425) 430-1414.

SUPPLEMENTARY INFORMATION: Pursuant to section 10(a)(2) of the Federal Advisory Committee Act (Pub. L. 92-463, 5 U.S.C., Appendix 2), notice is hereby given for a Special Committee 213 meeting. The agenda will include:

• August 21:

• Opening Plenary Session (Welcome, Introductions, and Agenda Review).

• Review SC-213 Objectives, Action Items, and SC-213 Web site content.

• Review initial reports from WG 1, and WG 2.

• Presentations.

• Afternoon: WG 1 and WG 2 meetings.

• August 22:

• WG 1 and WG 2 meeting.

• August 23:

• Morning: Work Group meetings and development of actions items.

• Afternoon: Plenary.

• Review action items and

• Define next steps for continued MASPS development.

• Closing Plenary Session (Other Business, Establish date and time for next meeting, Adjourn).

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on July 23, 2007.
Francisco Estrada C.,
RTCA Advisory Committee.

[FR Doc. 07-3677 Filed 7-26-07; 8:45 am]

BILLING CODE 4910-13-M